DEPARTMENT OF COMMERCE

National Oceanic and Atmospheric Administration

RIN 0648-XC489

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Ad Hoc Artificial Substrate Advisory Panel (AP).

DATES: The meeting will convene at 8:30 a.m. and conclude by 4 p.m. on Thursday, February 28, 2013.

ADDRESSES: The meeting will be held at the Gulf of Mexico Fishery Management Council, 2203 N. Lois Avenue, Suite 1100, Tampa, FL 33607; telephone: (813) 348-1630.

FOR FURTHER INFORMATION CONTACT: Dr. John Froeschke, Fishery Biologist-Statistician; Gulf of Mexico Fishery Management Council; telephone: (813) 348-1630 x235.

SUPPLEMENTARY INFORMATION: The Ad Hoc Artificial Substrate AP will meet to discuss artificial substrates and their potential consideration as an Essential Fish Habitat in Gulf of Mexico fisheries. Specifically, the AP will evaluate potential implications including regulatory, fishery, or habitat impacts of consideration of artificial substrates as essential fish habitat (EFH) in accordance with the regulations at 50 CFR Part 600 Subpart J. Items for consideration may include types of structures to be considered, potential conflicts with existing regulatory measures, and requirements to minimize impacts of fishing to the extent practicable. The AP will consider if new information exists that demonstrates artificial substrates, including fixed petroleum leg platforms and artificial reefs, provide habitat functions to federally-managed species in the Gulf of Mexico meeting the criteria identified and described as essential fish habitat (EFH) in accordance with the regulations at 50 CFR Part 600 Subpart J.

Copies of the agenda and other related materials can be obtained by calling (813) 348-1630.

Although other non-emergency issues not on the agenda may come before the Advisory Panel for discussion, in accordance with the Magnuson-Stevens Fishery Conservation and Management Act (Magnuson-Stevens Act), those issues may not be the subject of formal action during this meeting. Actions of the Advisory Panel will be restricted to those issues specifically identified in the agenda and any issues arising after publication of this notice that require emergency action under Section 305(c) of the Magnuson-Stevens Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: February 7, 2013.
Tracey L. Thompson,
Acting Deputy Director, Office of Sustainable Fisheries, National Marine, Fisheries Service.

[FR Doc. 2013-03148 Filed 2-11-13; 8:45 am]

BILLING CODE 3510-22-P